DEPARTMENT OF ENERGY

Federal Energy Regulatory Commission

[Docket No. CP18-533-000]

Texas Eastern Transmission, LP; Notice of Schedule for Environmental Review of the Line 1-N Abandonment Project

On July 24, 2018, Texas Eastern Transmission, LP filed an application in Docket No. CP18-533-000 requesting to discontinue natural gas service and abandon natural gas pipelines and aboveground facilities pursuant to section 7(b) of the Natural Gas Act and Part 157 of the Commission's regulations. The proposed project is known as the Line 1-N Abandonment Project (Project), and would abandon a portion of the Line 1-N lateral and related facilities in Harrison and Marion Counties, Texas.

On August 7, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA January 25, 2019

90-Day Federal Authorization Decision Deadline April 25, 2019

If a schedule change becomes necessary, additional notice will be provided so that the relevant agencies are kept informed of the Project's progress.

Project Description

Texas Eastern proposes to abandon a portion of its Line 1-N lateral and related facilities in Harrison and Marion Counties, Texas. Specifically, Texas Eastern is requesting approval to abandon in place and by removal a total of approximately 30 miles of 8-inch, 10-inch, and 12-inch-diameter lateral pipeline; abandon by removal all of the facilities at Metering and Regulating Station 70191; and abandon by removal all aboveground appurtenances on each of the 8-inch, 10-inch and 12-inch-diameter pipeline segments.

Background

On September 6, 2018, the Commission issued a Notice of Intent to Prepare an Environmental Assessment for the Proposed Line 1-N Abandonment Project and Request for Comments on Environmental Issues (NOI). The NOI was sent to affected landowners; federal, state, and local government agencies; elected officials; Native American tribes; other interested parties; and local libraries and newspapers. In response to the NOI, the Commission received comments from two landowners, and a landowner's legal representative. The primary issues raised by the commentors are concerns regarding exposed and damaged pipeline, pipeline contamination, and impacts of abandoning the pipeline in place. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-533), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 30, 2018.
Kimberly D. Bose,
Secretary.

[FR Doc. 2018-26663 Filed 12-7-18; 8:45 am]

BILLING CODE 6717-01-P